DEPARTMENT OF HEALTH AND HUMAN SERVICES

National Institutes of Health

Center for Scientific Review; Amended Notice of Meeting

Notice is hereby given of a change in the meeting of the Center for Scientific Review Advisory Committee, May 20, 2002, 9 AM to May 20, 2002, 3 PM, National Institutes of Health, Two Rockledge Center, Conference Room 9100, 6701 Rockledge Drive, Bethesda, MD 20892 which was published in the Federal Register on April 4, 2002, 67 FR 16114.

Additional agenda item. A review of the assurance documents for a research proposal involving the use of human embryonic germ cells will be conducted in compliance with the NIH guidelines. The meeting is open to the public.

Dated: May 3, 2002.
LaVerne Y. Stringfield,
Director, Office of Federal Advisory Committee Policy.

[FR Doc. 02-11690 Filed 5-9-02; 8:45 am]

BILLING CODE 4140-01-M